FEDERAL COMMUNICATIONS COMMISSION

47 CFR Part 73

[DA 13-1376]

Radio Broadcasting Services; Various Locations

AGENCY: Federal Communications Commission.

ACTION: Final rule.

SUMMARY: The Audio Division updates the FM Table of Allotments to reinstate five vacant FM allotments in various communities in Maryland, Oregon, Texas, Virginia, and Wyoming that were removed from FM Auction 94, because these allotments were not listed in the FM Table. These vacant allotments have previously undergone notice and comment rule making, but they were inadvertently removed from the FM Table of Allotments.

DATES: Effective July 17, 2013.

ADDRESSES: Federal Communications Commission, 445 Twelfth Street SW., Washington, DC 20554.

FOR FURTHER INFORMATION CONTACT: Rolanda F. Smith, Media Bureau, (202) 418-2700.

SUPPLEMENTARY INFORMATION: This is a synopsis of the Commission's Order, adopted June 13, 2013, and released June 14, 2013. The full text of this Commission decision is available for inspection and copying during normal business hours in the FCC's Reference Information Center at Portals II, CY-A257, 445 12th Street SW., Washington, DC 20554. This document may also be purchased from the Commission's duplicating contractors, Best Copy and Printing, Inc., 445 12th Street SW., Room CY-B402, Washington, DC 20554, telephone 1-800-378-3160 or via email www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will not send a copy of this Order pursuant to the Congressional Review Act, see 5 U.S.C. 801(a)(1)(A), because these allotments were previously reported.

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Amend § 73.202(b) Table of FM Allotments as follows:

a. Add Newark, under Maryland, Channel 235A.

b. Add Arlington, under Oregon, Channel 295C2.

c. Add Rocksprings, under Texas, Channel 291A.

d. Add Chincoteague, under Virginia, Channel 233A.

e. Add Baggs, under Wyoming, Channel 277A.

[FR Doc. 2013-17082 Filed 7-16-13; 8:45 am]

BILLING CODE 6712-01-P